DEPARTMENT OF JUSTICE

Antitrust Division

Notice Pursuant to the National Cooperative Research and Production Act of 1993—Information Warfare Research Project Consrotium

Notice is hereby given that, on October 14, 2022, pursuant to section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, 8 Consulting LLC, Luray, VA; Alirrium LLC, Reston, VA; Anacomp, Inc., Chantilly, VA; Avum, Inc., Agoura Hills, CA; Bowler Pons Solutions Consultants LLC, Annapolis, MD; Breault Research Organization, Tuscon, AZ; Bronze Bear Communications, Inc. dba FlexRadio, Austin, TX; Capstone Research Corporation, Madison, AL; Carnegie Mellon University, Pittsburgh, PA; Datron World Communications, Inc., Vista, CA; Elevate Group LLC dba Elevate Technology Solutions, Qunicy, MA; Epsilon C5I, Inc., San Diego, CA; Fibertek, Inc., Herndon, VA; Mid-America Applied Technologies Corp., Chagrin Falls, OH; Murano Corp., Research Triangle Park, NC; Norwich University Applied Research Institutes, Ltd., Northfield, VT; Nu Wave Ltd., Middletown, OH; Rancher Federal, Inc., Reston, VA; Raven Defense Corporation, Albuquerque, NM; Submergence Group LLC, Cedar Park, TX; Syntonics LLC, Columbia, MD; Tapestry Solutions, Inc., San Diego, CA; ThinKom Solutions, Inc., Hawthorne, CA; and VES LLC, Aberdeen Proving Ground, MD have been added as parties to this venture.

Also, American Defense International, Inc., West Tower, DC; AMP Research, Inc., Naples, FL; Digital Receiver Technology, Germantown, MD; Dynamic Data Management, Inc. dba Delta Bravo, Rock Hill, SC; Enveil, Inc., Fulton, MD; Galorath Federal, Inc., Alexandria, VA ; Genesis Dimensions LLC, Houston, TX; IMPRES Technology Solutions, Inc., Santa Fe Springs, CA; iXBlue Defense System, Inc., Lincoln, RI; QRC LLC dba QRC Technologies, Fredericksburg, VA; SecureLogix Corp., San Antonio, TX; TrueTandem LLC, Herndon, VA; and Welkins LLC, Downers Grove, IL have withdrawn as parties to this venture.

No other changes have been made in either the membership or planned activity of the group research project. Membership in this group research project remains open, and IWRP intends to file additional written notifications disclosing all changes in membership.

On October 15, 2018, IWRP filed its original notification pursuant to section 6(a) of the Act. The Department of Justice published a notice in the Federal Register pursuant to section 6(b) of the Act on October 23, 2018 (83 FR 53499).

The last notification was filed with the Department on July 29, 2022. A notice was published in the Federal Register pursuant to section 6(b) of the Act on August 30, 2022 (87 FR 53008).

Catherine Reilly,
Counsel for Civil Operations, Antitrust Division.

[FR Doc. 2022-24260 Filed 11-7-22; 8:45 am]

BILLING CODE P